DEPARTMENT OF EDUCATION

Early Childhood Longitudinal Study Kindergarten Class of 2010-11 (ECLS- K:2011) Spring Third-Grade National Collection, Fourth-Grade Recruitment, and Fifth-Grade Tracking; Title; Correction

AGENCY: Department of Education.

ACTION: Correction Notice.

SUMMARY: On September 10, 2014 the U.S. Department of Education published a 30-day comment period notice in the Federal Register Pages 53698, Column 3; Page 53699, Column 1 and 2 seeking public comment for an information collection entitled, “Early Childhood Longitudinal Study Kindergarten Class of 2010-11 (ECLS-K:2011) Spring Third-Grade National Collection, Fourth-Grade Recruitment, and Fifth-Grade Tracking”. ED is requesting a correction to the title. Title should read as Early Childhood Longitudinal Study Kindergarten Class of 2010-11 (ECLS-K:2011) Spring Fourth-Grade Data Collection & Recruitment for Fifth-Grade.

The Acting Director, Information Collection Clearance Division, Privacy, Information and Records Management Services, Office of Management, hereby issues a correction notice as required by the Paperwork Reduction Act of 1995.

Dated: September 30, 2014.
Kate Mullan,
Acting Director, Information Collection Clearance Division, Privacy, Information and Records Management Services, Office of Management.

[FR Doc. 2014-23578 Filed 10-2-14; 8:45 am]

BILLING CODE 4000-01-P